DEPARTMENT OF ENERGY

Federal Energy Regulatory Commission

Combined Notice of Filings #1

Take notice that the Commission received the following electric rate filings:

Docket Numbers: ER10-3246-034.

Applicants: PacifiCorp.

Description: Compliance filing: Notice of Change in Status re CAISO's EDAM to be effective 12/31/9998.

Filed Date: 2/27/26.

Accession Number: 20260227-5204.

Comment Date: 5 p.m. ET 3/20/26.

Docket Numbers: ER17-259-008.

Applicants: Darby Power, LLC.

Description: Refund Report: Refund report to 130 to be effective N/A.

Filed Date: 2/27/26.

Accession Number: 20260227-5266.

Comment Date: 5 p.m. ET 3/20/26.

Docket Numbers: ER17-260-008.

Applicants: Gavin Power, LLC.

Description: Refund Report: Refund report to 131 to be effective N/A.

Filed Date: 2/27/26.

Accession Number: 20260227-5289.

Comment Date: 5 p.m. ET 3/20/26.

Docket Numbers: ER17-262-008.

Applicants: Waterford Power, LLC.

Description: Refund Report: Refund report to 133 to be effective N/A.

Filed Date: 2/27/26.

Accession Number: 20260227-5272.

Comment Date: 5 p.m. ET 3/20/26.

Docket Numbers: ER18-2497-014.

Applicants: Lawrenceburg Power, LLC.

Description: Refund Report: Refund report to 149 to be effective N/A.

Filed Date: 2/27/26.

Accession Number: 20260227-5267.

Comment Date: 5 p.m. ET 3/20/26.

Docket Numbers: ER24-1156-005.

Applicants: Florida Power & Light Company.

Description: Compliance filing: Supplemental Amendment to September 22, 2025 Compliance Filing to be effective 4/1/2024.

Filed Date: 2/26/26.

Accession Number: 20260226-5298.

Comment Date: 5 p.m. ET 3/19/26.

Docket Numbers: ER25-318-003.

Applicants: Southwest Power Pool, Inc., Central Power Electric Cooperative, Inc.

Description: Compliance filing: Southwest Power Pool, Inc. submits tariff filing per 35: Compliance Filing in Response to Order issued in ER25-318 to be effective 1/1/2025.

Filed Date: 2/27/26.

Accession Number: 20260227-5237.

Comment Date: 5 p.m. ET 3/20/26.

Docket Numbers: ER26-1327-001.

Applicants: PJM Interconnection, L.L.C.

Description: Tariff Amendment: Amendment of ISA, SA No. 5548; Queue No. AC1-076/AE2-134 in ER26-1327-000 to be effective 4/13/2026.

Filed Date: 2/26/26.

Accession Number: 20260226-5299.

Comment Date: 5 p.m. ET 3/19/26.

Docket Numbers: ER26-1523-000.

Applicants: Atlas Solar V, LLC.

Description: Initial rate filing: Atlas Solar V Certificate of Concurrence CTV to be effective 2/27/2026.

Filed Date: 2/26/26.

Accession Number: 20260226-5304.

Comment Date: 5 p.m. ET 3/19/26.

Docket Numbers: ER26-1524-000.

Applicants: Atlas Solar V, LLC.

Description: Initial rate filing: Atlas Solar V Certificate of Concurrence SFA to be effective 2/27/2026.

Filed Date: 2/26/26.

Accession Number: 20260226-5308.

Comment Date: 5 p.m. ET 3/19/26.

Docket Numbers: ER26-1525-000.

Applicants: Duke Energy Indiana, LLC.

Description: Tariff Amendment: DEI-NIPSCO—Cancellation of Service Agreement No. 108 to be effective 4/28/2026.

Filed Date: 2/26/26.

Accession Number: 20260226-5309.

Comment Date: 5 p.m. ET 3/19/26.

Docket Numbers: ER26-1526-000.

Applicants: Southern California Edison Company.

Description: 205(d) Rate Filing: Revised TO Tariff Appendix IX, Attachment 2—Formula Rate Spreadsheet to be effective 1/1/2025.

Filed Date: 2/27/26.

Accession Number: 20260227-5003.

Comment Date: 5 p.m. ET 3/20/26.

Docket Numbers: ER26-1527-000.

Applicants: PacifiCorp.

Description: 205(d) Rate Filing: Notice of Change in Status to Reflect Participation in CAISO's EDAM to be effective 12/31/9998.

Filed Date: 2/27/26.

Accession Number: 20260227-5004.

Comment Date: 5 p.m. ET 3/20/26.

Docket Numbers: ER26-1528-000.

Applicants: Atlas Solar VI, LLC.

Description: Initial rate filing: Atlas Solar VI Certificate of Concurrence CTV Filing to be effective 2/28/2026.

Filed Date: 2/27/26.

Accession Number: 20260227-5027.

Comment Date: 5 p.m. ET 3/20/26.

Docket Numbers: ER26-1529-000.

Applicants: Atlas Solar VI, LLC.

Description: Initial rate filing: Atlas Solar IV Certificate of Concurrence to be effective 2/28/2026.

Filed Date: 2/27/26.

Accession Number: 20260227-5032.

Comment Date: 5 p.m. ET 3/20/26.

Docket Numbers: ER26-1530-000.

Applicants: Midcontinent Independent System Operator, Inc.

Description: 205(d) Rate Filing: 2026-02-27_SA 3153 METC-Crescent Wind 1st Rev GIA (J538 J2283) to be effective 2/24/2026.

Filed Date: 2/27/26.

Accession Number: 20260227-5039.

Comment Date: 5 p.m. ET 3/20/26.

Docket Numbers: ER26-1531-000.

Applicants: Keystone Appalachian Transmission Company.

Description: 205(d) Rate Filing: KATCo submits Construction Agmt—SA No. 7351 to be effective 4/29/2026.

Filed Date: 2/27/26.

Accession Number: 20260227-5047.

Comment Date: 5 p.m. ET 3/20/26.

Docket Numbers: ER26-1532-000.

Applicants: PECO Energy Company.

Description: 205(d) Rate Filing: TSA between PECO and Bellwether to be effective 4/29/2026.

Filed Date: 2/27/26.

Accession Number: 20260227-5119.

Comment Date: 5 p.m. ET 3/20/26.

Docket Numbers: ER26-1533-000.

Applicants: Enerwise Global Technologies, LLC.

Description: 205(d) Rate Filing: Market-Based Rate Tariff Revisions to be effective 2/28/2026.

Filed Date: 2/27/26.

Accession Number: 20260227-5134.

Comment Date: 5 p.m. ET 3/20/26.

Docket Numbers: ER26-1534-000.

Applicants: PJM Interconnection, L.L.C.

Description: 205(d) Rate Filing: Original GIA, Service Agreement No. 7892; AF2-041/AF2-199/AF2-200 to be effective 1/28/2026.

Filed Date: 2/27/26.

Accession Number: 20260227-5147.

Comment Date: 5 p.m. ET 3/20/26.

Docket Numbers: ER26-1535-000.

Applicants: California Independent System Operator Corporation.

Description: Tariff Amendment: 2026-02-27 Notice of Cancellation—EIM Implementation Agreement—Avangrid to be effective 4/29/2026.

Filed Date: 2/27/26.

Accession Number: 20260227-5193.

Comment Date: 5 p.m. ET 3/20/26.

Docket Numbers: ER26-1536-000.

Applicants: California Independent System Operator Corporation.

Description: Tariff Amendment: 2026-02-27 Notice of Cancellation—EIM Implementation Agreement—Avista to be effective 4/29/2026.

Filed Date: 2/27/26.

Accession Number: 20260227-5198.

Comment Date: 5 p.m. ET 3/20/26.

Docket Numbers: ER26-1537-000.

Applicants: California Independent System Operator Corporation.

Description: Tariff Amendment: 2026-02-27 Notice of Cancellation—EIM Implementation Agreement—Bonneville to be effective 4/29/2026.

Filed Date: 2/27/26.

Accession Number: 20260227-5201.

Comment Date: 5 p.m. ET 3/20/26.

Docket Numbers: ER26-1538-000.

Applicants: Midcontinent Independent System Operator, Inc.

Description: 205(d) Rate Filing: 2026-02-27_PJM Tranche 2.1 Upgrades to be effective 5/28/2026.

Filed Date: 2/27/26.

Accession Number: 20260227-5203.

Comment Date: 5 p.m. ET 3/20/26.

Docket Numbers: ER26-1539-000.

Applicants: California Independent System Operator Corporation.

Description: Tariff Amendment: 2026-02-27 Notice of Cancellation—EIM Implementation Agreement—El Paso to be effective 4/29/2026.

Filed Date: 2/27/26.

Accession Number: 20260227-5207.

Comment Date: 5 p.m. ET 3/20/26.

Docket Numbers: ER26-1540-000.

Applicants: California Independent System Operator Corporation.

Description: Tariff Amendment: 2026-02-27 Notice of Cancellation—EIM Implementation Agreement—LADWP to be effective 4/29/2026.

Filed Date: 2/27/26.

Accession Number: 20260227-5208.

Comment Date: 5 p.m. ET 3/20/26.

Docket Numbers: ER26-1541-000.

Applicants: California Independent System Operator Corporation.

Description: Tariff Amendment: 2026-02-27 Notice of Cancellation—EIM Implementation Agrmt—NorthWestern Energy to be effective 4/29/2026.

Filed Date: 2/27/26.

Accession Number: 20260227-5210.

Comment Date: 5 p.m. ET 3/20/26.

Docket Numbers: ER26-1542-000.

Applicants: California Independent System Operator Corporation.

Description: Tariff Amendment: 2026-02-27 Notice of Cancellation—EIM Implementation Agreement—Powerex to be effective 4/29/2026.

Filed Date: 2/27/26.

Accession Number: 20260227-5214.

Comment Date: 5 p.m. ET 3/20/26.

Docket Numbers: ER26-1543-000.

Applicants: Appalachian Power Company, Indiana Michigan Power Company, Kentucky Power Company, Kingsport Power Company, Ohio Power Company, Wheeling Power Company, AEP Appalachian Transmission Company, Inc., AEP Indiana Michigan Transmission Company, Inc., AEP Kentucky Transmission Company, Inc., AEP Ohio Transmission Company, Inc., AEP West Virginia Transmission Company, Inc.

Description: 205(d) Rate Filing: Appalachian Power Company submits tariff filing per 35.13(a)(2)(iii: AEPSC Order No. 898 Rate Filing to be effective 1/1/2025.

Filed Date: 2/27/26.

Accession Number: 20260227-5218.

Comment Date: 5 p.m. ET 3/20/26.

Docket Numbers: ER26-1544-000.

Applicants: California Independent System Operator Corporation.

Description: Tariff Amendment: 2026-02-27 Notice of Cancellation—EIM Implementation Agreement—PSC New Mexico to be effective 4/29/2026.

Filed Date: 2/27/26.

Accession Number: 20260227-5219.

Comment Date: 5 p.m. ET 3/20/26.

Docket Numbers: ER26-1545-000.

Applicants: Alabama Power Company, Georgia Power Company, Mississippi Power Company.

Description: 205(d) Rate Filing: Alabama Power Company submits tariff filing per 35.13(a)(2)(iii: S.

Filed Date: 2/27/26.

Accession Number: 20260227-5223.

Comment Date: 5 p.m. ET 3/20/26.

Docket Numbers: ER26-1546-000.

Applicants: California Independent System Operator Corporation.

Description: Tariff Amendment: 2026-02-27 Notice of Cancellation—EIM Implementation Agrmt—Seattle City Light to be effective 4/29/2026.

Filed Date: 2/27/26.

Accession Number: 20260227-5224.

Comment Date: 5 p.m. ET 3/20/26.

Docket Numbers: ER26-1547-000.

Applicants: Alabama Power Company, Georgia Power Company, Mississippi Power Company.

Description: 205(d) Rate Filing: Alabama Power Company submits tariff filing per 35.13(a)(2)(iii: Cabokenze Energy Storage SISA Filing to be effective 2/16/2026.

Filed Date: 2/27/26.

Accession Number: 20260227-5225.

Comment Date: 5 p.m. ET 3/20/26.

Docket Numbers: ER26-1548-000.

Applicants: Alabama Power Company, Georgia Power Company, Mississippi Power Company.

Description: 205(d) Rate Filing: Alabama Power Company submits tariff filing per 35.13(a)(2)(iii: White Pine Energy Storage SISA Filing to be effective 2/16/2026.

Filed Date: 2/27/26.

Accession Number: 20260227-5226.

Comment Date: 5 p.m. ET 3/20/26.

Docket Numbers: ER26-1549-000.

Applicants: California Independent System Operator Corporation.

Description: Tariff Amendment: 2026-02-27 Notice of Cancellation—EIM Implementation Agreement—Tacoma to be effective 4/29/2026.

Filed Date: 2/27/26.

Accession Number: 20260227-5228.

Comment Date: 5 p.m. ET 3/20/26.

Docket Numbers: ER26-1550-000.

Applicants: California Independent System Operator Corporation.

Description: Tariff Amendment: 2026-02-27 Notice of Cancellation—EIM Implementation Agreement—Salt River Proj. to be effective 4/29/2026.

Filed Date: 2/27/26.

Accession Number: 20260227-5229.

Comment Date: 5 p.m. ET 3/20/26.

Docket Numbers: ER26-1551-000.

Applicants: Midcontinent Independent System Operator, Inc.

Description: 205(d) Rate Filing: 2026-02-27_Updates for Rate Schedule 2 MISO Manitoba Hydro Coordination Agrmnt to be effective 3/1/2026.

Filed Date: 2/27/26.

Accession Number: 20260227-5230.

Comment Date: 5 p.m. ET 3/20/26.

Docket Numbers: ER26-1552-000.

Applicants: California Independent System Operator Corporation.

Description: Tariff Amendment: 2026-02-27 Notice of Cancellation—EIM Implementation Agreement—Tucson to be effective 4/29/2026.

Filed Date: 2/27/26.

Accession Number: 20260227-5231.

Comment Date: 5 p.m. ET 3/20/26.

Docket Numbers: ER26-1553-000.

Applicants: California Independent System Operator Corporation.

Description: Tariff Amendment: 2026-02-27 Notice of Cancellation—EIM Implementation Agreement—Turlock to be effective 4/29/2026.

Filed Date: 2/27/26.

Accession Number: 20260227-5239.

Comment Date: 5 p.m. ET 3/20/26.

Docket Numbers: ER26-1554-000.

Applicants: California Independent System Operator Corporation.

Description: Tariff Amendment: 2026-02-27 Notice of Cancellation—EIM Implementation Agreement—WAPA to be effective 4/29/2026.

Filed Date: 2/27/26.

Accession Number: 20260227-5241.

Comment Date: 5 p.m. ET 3/20/26.

Docket Numbers: ER26-1555-000.

Applicants: PJM Interconnection, L.L.C.

Description: Tariff Amendment: Notice of Cancellation of ISA, SA No. 7013; Project Identifier No. AD2-179 to be effective 4/29/2026.

Filed Date: 2/27/26.

Accession Number: 20260227-5242.

Comment Date: 5 p.m. ET 3/20/26.

Docket Numbers: ER26-1556-000.

Applicants: PJM Interconnection, L.L.C.

Description: 205(d) Rate Filing: Proposal to Extend the Price Cap and Price Floor for 2028/29 & 2029/30 to be effective 3/31/2026.

Filed Date: 2/27/26.

Accession Number: 20260227-5247.

Comment Date: 5 p.m. ET 3/20/26.

Docket Numbers: ER26-1557-000.

Applicants: PacifiCorp.

Description: 205(d) Rate Filing: Refinements to Extended Day-Ahead Market Implementation to be effective 12/31/9998.

Filed Date: 2/27/26.

Accession Number: 20260227-5252.

Comment Date: 5 p.m. ET 3/20/26.

Docket Numbers: ER26-1558-000.

Applicants: New England Power Pool Participants Committee.

Description: 205(d) Rate Filing: Mar 2025 Membership Filing to be effective 3/1/2026.

Filed Date: 2/27/26.

Accession Number: 20260227-5291.

Comment Date: 5 p.m. ET 3/20/26.

Docket Numbers: ER26-1559-000.

Applicants: Hashknife Energy Center II LLC.

Description: Initial Rate Filing: Hashknife Energy Center II MBR Tariff Application to be effective 4/29/2026.

Filed Date: 2/27/26.

Accession Number: 20260227-5292.

Comment Date: 5 p.m. ET 3/20/26.

Docket Numbers: ER26-1560-000.

Applicants: New York Independent System Operator, Inc.

Description: Informational filing containing interconnection study metrics for the NYISO's Transition Cluster Study Phase 1 Study pursuant to Section 40.9.3.1.3.1 of its OATT.

Filed Date: 2/24/26.

Accession Number: 20260224-5213.

Comment Date: 5 p.m. ET 3/17/26.

Docket Numbers: ER26-1561-000.

Applicants: PJM Interconnection, L.L.C.

Description: Tariff Amendment: Notice of Cancellation of ISA, Service Agreement No. 6576; PJM Queue No. AD2-062 to be effective 4/29/2026.

Filed Date: 2/27/26.

Accession Number: 20260227-5307.

Comment Date: 5 p.m. ET 3/20/26.

Docket Numbers: ER26-1562-000.

Applicants: PJM Interconnection, L.L.C.

Description: 205(d) Rate Filing: GIA, Service Agreement No. 7883; Z2-087/AE2-223/AF2-225 to be effective 1/28/2026.

Filed Date: 2/27/26.

Accession Number: 20260227-5314.

Comment Date: 5 p.m. ET 3/20/26.

Take notice that the Commission received the following qualifying facility filings:

Docket Numbers: QF26-536-000.

Applicants: EQX033.Z PROJECTCO, LLC.

Description: Form 556 of EQX033.Z PROJECTCO, LLC.

Filed Date: 2/18/26.

Accession Number: 20260218-5174.

Comment Date: 5 p.m. ET 3/11/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 27, 2026.
Carlos D. Clay,
Deputy Secretary.

[FR Doc. 2026-04264 Filed 3-3-26; 8:45 am]

BILLING CODE 6717-01-P